DEPARTMENT OF DEFENSE

Department of the Navy

Notice of Intent To Grant Co-Exclusive License

AGENCY: Department of the Navy, DoD.

ACTION: Notice.

SUMMARY: The Department of the Navy hereby gives notice of its intent to grant to Sirchie Acquisition Company, LLC. (Youngsville, NC) a revocable, nonassignable, co-exclusive license to practice worldwide, the Government-owned inventions described and claimed in U.S. Patent No. 8,5574,658 issued November 5, 2013: FUMELESS LATENT FINGERPRINT DETECTION. The Navy intends to grant no more than two co-exclusive licenses to the above invention.

DATES: Anyone wishing to object to the grant of this co-exclusive license must file written objections along with supporting evidence, if any, not later than November 30, 2018.

ADDRESSES: Written objections are to be filed with the Office of Research and Technology Applications, Naval Air Warfare Center Weapons Division, Code 400000D, 1900 N Knox Road, Stop 6306, China Lake, CA 93555-6106.

FOR FURTHER INFORMATION CONTACT: Dylan Riley, Director, Technology Transfer Office, Naval Air Warfare Center Weapons Division, Code 498400D, 1900 N Knox Road, Stop 6312, China Lake, CA 93555-6106, telephone 760-939-2105, Email: dylan.riley@navy.mil.

Authority: 35 U.S.C. 207, 37 CFR part 404.

Dated: November 9, 2018.
Meredith Steingold Werner,
Commander, Judge Advocate General's Corps, U.S. Navy, Federal Register Liaison Officer.

[FR Doc. 2018-24910 Filed 11-14-18; 8:45 am]

BILLING CODE 3810-FF-P